ENVIRONMENTAL PROTECTION AGENCY

[EPA-HQ-OPP-2016-0078; FRL-9955-34-OEI]

Information Collection Request Submitted to OMB for Review and Approval; Comment Request; Pesticide Environmental Stewardship Program Annual Measures Reporting

AGENCY: Environmental Protection Agency (EPA).

ACTION: Notice.

SUMMARY: The Environmental Protection Agency has submitted an information collection request (ICR), “Pesticide Environmental Stewardship Program Annual Measures Reporting” (EPA ICR No. 2415.03, OMB Control No. 2070-0188) to the Office of Management and Budget (OMB) for review and approval in accordance with the Paperwork Reduction Act (44 U.S.C. 3501 et seq.). This is a proposed extension of the ICR, which is currently approved through November 30, 2016. Public comments were previously requested via the Federal Register (81 FR 15105) on March 21, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 28, 2016.

ADDRESSES: Submit your comments, referencing Docket ID Number EPA-HQ-OPP-2016-0078, to (1) EPA online using www.regulations.gov (our preferred method), by email to OPP_Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lily G. Negash, Office of Pesticide Programs, Field & External Affairs Division, 7605P, Environmental Protection Agency, 1200 Pennsylvania Ave. NW., Washington, DC 20460; telephone number: 703-347-8515; email address: negash.lily@epa.gov.

SUPPLEMENTARY INFORMATION: Supporting documents which explain in detail the information that EPA will be collecting are available in the public docket for this ICR. The docket can be viewed online at www.regulations.gov or in person at EPA Docket Center, WJC West, Room 3334, 1301 Constitution Ave. NW., Washington, DC. The telephone number for the Docket Center is 202-566-1744. For additional information about EPA's public docket, visit http://www.epa.gov/dockets.

Abstract: EPA is requesting renewed approval to offer voluntary participation in the Pesticide Environmental Stewardship Program (PESP). The program uses the information collected to establish partner membership, develop stewardship strategies, measure progress towards stewardship goals, and award incentives. PESP is an EPA partnership program that encourages the use of integrated pest management (IPM) strategies to reduce pests and pesticide risks. IPM is an approach that involves making the best choices from among a series of pest management practices that are both economical and pose the least possible hazard to people, property, and the environment.

While most PESP members are entities that are pesticide end-users, several others are organizations which focus on training, educating, or influencing pesticide users. To become a PESP member, a pesticide user entity or an organization submits an application and a five-year strategy. The strategy outlines how environmental and human health risk reduction goals will be achieved through IPM implementation or education. The program encourages PESP members to track progress towards IPM goals such as: Reductions in unnecessary use of pesticides, cost reductions, and knowledge shared about IPM methodologies. Entities participating in PESP also benefit from technical assistance, and through incentives for achievements at different levels.

PESP is EPA's non-regulatory approach to meeting the goals of the Pollution Prevention Act (PPA), the Federal Insecticide, Fungicide, and Rodenticide Act (FIFRA), and the Food Quality Protection Act (FQPA) to reduce pesticide risks in agricultural and non-agricultural settings. Section 2(b) of the PPA of 1990, 42 U.S.C. 13101(b), sets forth “the national policy of the United States that pollution should be prevented or reduced at the source whenever feasible.” Section 3 defines source reduction as any practice that “reduces the amount of any hazardous substance . . . released into the environment” and “reduces the hazards to public health and the environment associated with the release of such substances.”

Section 3 of FIFRA requires EPA to regulate pesticides to prevent “unreasonable adverse effects” on human health and the environment. Further, FQPA of 1996 (7 U.S.C. 136r-1) requires the U.S. Department of Agriculture and EPA to implement programs in research, demonstration, and education to support the adoption of IPM, make information on IPM widely available to pesticide users, use IPM techniques in carrying out pest management activities, as well as promote IPM through procurement, regulatory policies and other activities.

Form Numbers: Strategy/Progress Reporting Form for PESP Members that are Not Commercial/Residential Pest Control Services (EPA Form No. 9600-01); PESP Membership Application Form (EPA Form 9600-02); and PESP Strategy/Progress Reporting Form for Residential/Commercial Pest Control Service Providers (EPA Form No. 9600-03).

Respondents/affected entities: Entities potentially affected by this ICR are pesticide user companies and organizations, or entities that practice IPM or promote the use of IPM through education and training.

Respondent's obligation to respond: Voluntary, required to obtain or retain a benefit.

Estimated number of respondents: 419 (total).

Frequency of response: Annually and on occasion.

Total estimated burden: 47,665 hours (per year). Burden is defined at 5 CFR 1320.03(b).

Total estimated cost: $3,126,949 (per year), includes $0 annualized capital or operation & maintenance costs.

Changes in the estimates: There is an increase of 4,642 hours in the total estimated respondent burden compared with the ICR currently approved by OMB. This increase is an adjustment of EPA's projection based on historical information about PESP membership.

Courtney Kerwin,
Director, Regulatory Support Division.

[FR Doc. 2016-28517 Filed 11-25-16; 8:45 am]

BILLING CODE 6560-50-P